COMMISSION ON CIVIL RIGHTS

Notice of Public Meeting of the Ohio Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the Ohio Advisory Committee (Committee) will hold a meeting via teleconference on Friday September 14, 2018, from 9 a.m.-4 p.m. EDT for the purpose of hearing testimony regarding civil rights and education funding in the state.

DATES: The meeting will be held on Friday September 14, 2018, from 9 a.m.-4 p.m. EDT.

ADDRESSES: Cleveland State University, Fenn Tower, 1938 E 24th Street, Cleveland, OH 44115.

FOR FURTHER INFORMATION CONTACT: Melissa Wojnaroski, DFO, at mwojnaroski@usccr.gov or 312-353-8311.

SUPPLEMENTARY INFORMATION: This meeting is open to the public. An open comment period will be provided to allow members of the public to make a statement, beginning at 4 p.m. To request individual accommodations for persons with disabilities planning to attend, please contact the Regional Programs Unit at 312-353-8311 at least 10 days prior to the meeting. Members of the public are also entitled to submit written comments; the comments must be received in the regional office within 30 days following the meeting. Written comments may be mailed to the Regional Programs Unit, U.S. Commission on Civil Rights, 230 S Dearborn, Suite 2120, Chicago, IL 60604. They may also be faxed to the Commission at (312) 353-8324, or emailed to Carolyn Allen at callen@usccr.gov. Persons who desire additional information may contact the Regional Programs Unit at (312) 353-8311.

The Committee intends to examine Ohio's school funding formula and its impact on access to education on the basis of color, race, sex, religion, national origin, and/or disability status. The Committee will examine (a) the extent to which the state's school funding formula may contribute to a disparate impact on educational access and outcomes on the basis of these federally protected categories, (b) if the policies and practices are reasonably necessary to the education success of the students or other aspects of the education system, and (c) alternative policies and practices with the demonstrated potential to address such concerns. The Committee will hear testimony from community members, advocates, academics, public and private school administrators, and government officials.

Records generated from this meeting may be inspected and reproduced at the Regional Programs Unit Office, as they become available, both before and after the meeting. Records of the meeting will be available via www.facadatabase.gov under the Commission on Civil Rights, Ohio Advisory Committee link (http://www.facadatabase.gov/committee/meetings.aspx?cid=268). Persons interested in the work of this Committee are directed to the Commission's website, http://www.usccr.gov, or may contact the Regional Programs Unit Office at the above email or street address.

Agenda

Opening Remarks and Introductions (9:00 a.m.-9:15 a.m.)

Panel 1: Academic (9:15 a.m.-10:45 a.m.)

Panel 2: Private Schools & Public Charter Schools (11:00 a.m.-12:30 p.m.)

Break (12:30 p.m.-1:30 p.m.)

Panel 3: Public Schools & Community (1:30 p.m.-3:00 p.m.)

Open Forum (3:00 p.m.-4:00 p.m.)

Closing Remarks (4:00 p.m.)

Dated: August 13, 2018.
David Mussatt,
Supervisory Chief, Regional Programs Unit.

[FR Doc. 2018-17706 Filed 8-15-18; 8:45 am]

BILLING CODE 6335-01-P